COMMISSION ON CIVIL RIGHTS

Notice of Public Meeting of the Nebraska Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Nebraska Advisory Committee (Committee) will hold a public meeting to hear testimony on civil rights and prison conditions for individuals with mental health conditions in the state.

DATES: The meeting will take place on Thursday June 13, 2019, from 9:00 a.m.-4:00 p.m. CDT.

ADDRESSES: Lincoln Marriott Cornhusker Hotel, 333 S 13th Street, Lincoln, NE 68508.

FOR FURTHER INFORMATION CONTACT: Melissa Wojnaroski, DFO, at mwojnaroski@usccr.gov or (312) 353-8311.

SUPPLEMENTARY INFORMATION: This meeting is free and open to the public. An open comment period will be provided beginning at 3 p.m. to allow members of the public to make a statement to the Committee as time allows. Persons with disabilities requesting reasonable accommodations should contact the Commission's Regional Programs Unit at 312-353-8311 at least 10 days prior to the meeting.

Members of the public are entitled to submit written comments; the comments must be received in the regional office within 30 days following the meeting. Written comments may be mailed to the Regional Programs Unit, U.S. Commission on Civil Rights, 230 S Dearborn, Suite 2120, Chicago, IL 60604. They may also be delivered at the June 13 public meeting, faxed to the Commission at (312) 353-8324, or emailed to Corrine Sanders at csanders@usccr.gov. Persons who desire additional information may contact the Regional Programs Unit at (312) 353-8311.

Records generated from this meeting may be inspected and reproduced at the Regional Programs Unit Office, as they become available, both before and after the meeting. Records of the meeting will be available via www.facadatabase.gov under the Commission on Civil Rights, Nebraska Advisory Committee link. Persons interested in the work of this Committee are directed to the Commission's website, http://www.usccr.gov, or may contact the Regional Programs Unit at the above email or street address.

Agenda

Opening Remarks and Introductions (9:00 a.m.-9:15 a.m.)

Panel 1: Legal & Advocates (9:15 a.m.-10:45 a.m.)

Panel 2: Mental Health & Community (11:00 a.m.-12:15 p.m.)

Break (12:15 p.m.-1:30 p.m.)

Panel 3: Government (1:30 p.m.-2:45 p.m.)

Open Public Comment (3:00 p.m.-4:00 p.m.)

Closing Remarks (4:00 p.m.)

Dated: May 9, 2019.
David Mussatt,
Supervisory Chief, Regional Programs Unit.

[FR Doc. 2019-09933 Filed 5-13-19; 8:45 am]

BILLING CODE P